DEPARTMENT OF JUSTICE

Antitrust Division

Notice Pursuant to the National Cooperative Research and Production Act of 1993—National Electrical Contractors Association

Notice is hereby given that, on October 8, 2004, pursuant to Section 6(a) of the National Cooperative Research and Production Act of 1993, 15 U.S.C. 4301 et seq. (“the Act”), National Electrical Contractors Association (“NECA”) has filed written notifications simultaneously with the Attorney General and the Federal Trade Commission disclosing (1) the name the principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: National Electrical Contractors Association, Bethesda, MD. The nature and scope of NECA's standards development activities are: NECA, in partnership with other industry organizations, has developed the National Electric Installation Standards™ for electrical construction. The standards go beyond the basic safety requirements of the National Electrical Code to clearly define what is meant by installing products and systems in a “neat and workmanlike” manner. All NEIS are submitted for approval by the American National Standards Institute (ANSI).

Dorothy B. Fountain,
Deputy Director of Operations, Antitrust Division.

[FR Doc. 04-26209 Filed 11-26-04; 8:45 am]

BILLING CODE 4410-11-M